DEPARTMENT OF THE TREASURY

Financial Crimes Enforcement Network; Agency Information Collection Activities; Proposed Collection; Comment Request; Currency Transaction Report

AGENCY: Financial Crimes Enforcement Network (“FinCEN”).

ACTION: Notice.

SUMMARY: To comply with the requirements of the Paperwork Reduction Act of 1995 concerning proposed extensions of information collection requirements, FinCEN is soliciting comments on currency transactions on the Currency Transaction Report (“CTR”), Internal Revenue Service Form 4789.

DATES: Submit written comments by May 30, 2000 to be assured of consideration.

ADDRESSES: Direct all written comments to the Financial Crimes Enforcement Network, Office of Chief Counsel, ATTN: CTR Comments, Suite 200, 2070 Chain Bridge Road, Vienna, VA 22182-2536.

FOR FURTHER INFORMATION CONTACT: Requests for additional information or for a copy of the form should be directed to Therese Wiese, Deputy Assistant Director, Office of Compliance and Regulatory Enforcement, FinCEN at 202-354-6400 or Cynthia L. Clark, Deputy Chief Counsel, FinCEN at 905-3590. A copy of the CTR form can be obtained through the Internet at http://www.treas.gov/fincen/forms.html#4789.

SUPPLEMENTARY INFORMATION: The Bank Secrecy Act, Titles I and II of Public Law 91-508, as amended, codified at 12 U.S.C. 1829b, 12 U.S.C. 1951-1959, and 31 U.S.C. 5311-5314, 5316-5330, authorizes the Secretary of the Treasury, inter alia, to issue regulations requiring records and reports that are determined to have a high degree of usefulness in criminal, tax, and regulatory matters. Regulations implementing Title II of the Bank Secrecy Act (codified at 31 U.S.C. 5311-5314, 5316-5330) appear at 31 CFR part 103. The authority of the Secretary to administer the Bank Secrecy Act regulations has been delegated to the Director of FinCEN.

The Bank Secrecy Act specifically provides the Secretary the authority to issue regulations that require a report when “a domestic financial institution is involved in a transaction for the payment, receipt, or transfer of United States coins or currency (or other monetary instruments the Secretary of the Treasury prescribes), in an amount, denomination, or amount and denomination, or under circumstances the Secretary prescribes * * *” 31 U.S.C. 5913(a). The authority of 31 U.S.C. 5313(a) has been implemented through regulations promulgated at 31 CFR 103.22 and through the instructions to the CTR, Internal Revenue Service Form 4789.

Information collected on the CTR is made available, in accordance with strict safeguards, to appropriate criminal law enforcement and regulatory personnel in the official performance of their duties. The information contained is of use in investigations involving international and domestic money laundering, tax evasion, fraud, and other financial crimes.

In accordance with requirements of the Paperwork Reduction Act of 1995, 44 U.S.C. 3506(c)(2)(A), and its implementing regulations, 5 CFR 1320, the following information concerning the collection of information on Form 4789 is presented to assist those persons wishing to comment on the information collection. (The number of respondents has significantly varied each year; the estimates below are based on an average.)

Title: Currency Transaction Report.

Form Number: IRS Form 4789.

OMB Number: 1506-0004.

Description of Respondents: Certain United States financial institutions, other than casinos.

Estimated Number of Respondents: 10,000,000.

Frequency: As required.

Estimate of Burden: Reporting average of 19 minutes per response; recordkeeping average of 5 minutes per response.

Estimate of Total Annual Burden on Respondents: Reporting burden estimate = 3,166,667 hours; recordkeeping burden estimate = 833,333 hours. Estimated combined total of 4,000,000 hours.

Type of Request: Extension, without revision.

FinCEN specifically invites comments on the following subjects: (a) Whether the proposed collection of information is necessary for the proper performance of the mission of FinCEN, including whether the information shall have practical utility; (b) the accuracy of FinCEN's estimate of the burden of the proposed collection of information; (c) ways to enhance the quality, utility, and clarity of the information to be collected; (d) ways to minimize the burden of the collection of information on respondents, including through the use of automated collection techniques or other forms of information technology; and (e) estimate of capital or startup costs of operation, maintenance, and purchase of services to provide information.

Dated: March 27, 2000.
James F. Sloan,
Director, Financial Crimes Enforcement Network.

[FR Doc. 00-8036 Filed 3-30-00; 8:45 am]

BILLING CODE 4820-03-P